SOCIAL SECURITY ADMINISTRATION

[Docket No. SSA-2017-0049]

Request for Information on Strategies To Improve Adult Outcomes for Youth Receiving Supplemental Security Income (SSI)

AGENCY: Social Security Administration.

ACTION: Request for information.

SUMMARY: The Social Security Administration (SSA) administers the Supplemental Security Income (SSI) program, which provides means-tested payments to the elderly, blind, and disabled, including children. This request for information (RFI) seeks public input on strategies for improving the adult economic outcomes of youth ages 14 to 25 with disabilities receiving SSI. The input we receive will inform our deliberations about potential policy changes and the design of future demonstration projects for transition-age SSI recipients.

DATES: Comments must be received by February 2, 2018.

ADDRESSES: You may submit comments by any one of three methods—internet, fax, or mail. Do not submit the same comments multiple times or by more than one method. Regardless of which method you choose, please state that your comments refer to Docket No. SSA-2017-0049 so that we may associate your comments with the correct docket.

CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the “Search” function to find docket number SSA-2017-0049. The system will issue a tracking number to confirm your submission. You will not be able to view your comment immediately because we must post each comment manually. It may take up to a week for your comment to be viewable.

2. Fax: Fax comments to (410) 966-2830.

3. Mail: Mail your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Katherine Bent, Associate Commissioner for Research, Demonstration, and Employment Support, Office of Retirement and Disability Policy, Social Security Administration, 6401 Security Boulevard, Baltimore, MD 21235-6401, (410) 966-9036, for information about this notice. For information on eligibility or filing for benefits, call our national toll-free number, 1-800-772-1213 or TTY 1-800-325-0778, or visit our internet site, Social Security Online, at http://www.socialsecurity.gov.

SUPPLEMENTARY INFORMATION:

Purpose

The SSI program provides means-tested payments to the elderly and individuals with disabilities, including children. In 2016, the SSI program provided payments to over 9 million individuals, about 11 percent of whom were transition age, which we define as ages 14-25.¹ While studies have shown that transition-age SSI recipients are at risk of poor economic outcomes—lower earnings and employment—when they become adults, it is not clear what supports could improve these outcomes or who should provide them. Understanding that SSI is only one part of the social safety net of programs intended to support individuals, SSA is interested in playing an appropriate role supporting broader Federal, State, and local efforts to improve the adult outcomes of youth SSI recipients.

¹ https://www.ssa.gov/policy/docs/statcomps/ssi_asr/2016/sect01.html (table3); https://www.ssa.gov/policy/docs/statcomps/ssi_asr/2016/sect04.html (table19); https://www.ssa.gov/policy/docs/statcomps/ssi_asr/2016/sect06.html (table35);

This RFI offers interested parties, including States, community-based and other non-profit organizations, philanthropic organizations, researchers, and members of the public, the opportunity to provide information and recommendations on effective approaches for improving adult outcomes for youth receiving SSI. For the purposes of this notice, “transition age” and “youth” are used interchangeably and refer to individuals ages 14 to 25; ² “minors” or “children” is used to refer to individuals under the age of 18.

² For a discussion of Federal efforts with respect to transition-age individuals, see Federal Partners in Transition Workgroup (2015) “The 2020 Federal Youth Transition Plan: A Federal Interagency Strategy.” (available at http://youth.gov/docs/508_EDITED_RC_FEB26-accessible.pdf).

Background

Youth receiving SSI confront challenges due to poor health, poverty, a lack of information to access the fragmented adult service system, and other barriers.³ Many youth face a lack of coordinated services, especially as they leave high school and their schools no longer provide youth support. SSA's redetermination of SSI eligibility at age 18 also generally results in 30-40 percent of youth losing SSI eligibility (and the accompanying automatic Medicaid access that most SSI recipients receive) because their condition does not meet the adult standard for disability.⁴ The Government Accountability Office (GAO) has noted that these issues contribute to the difficulties many child SSI recipients experience transitioning to adulthood.⁵

³ Students with Disabilities: Better Federal Coordination Could Lessen Challenges in the Transition from High School. (available at http://www.gao.gov/products/GAO-12-594). Youth With Autism: Federal Agencies Should Take Additional Action to Support Transition-Age Youth. (available at https://www.gao.gov/products/GAO-17-352).

⁴ Annual Report on Medical Continuing Disability Reviews. (available at https://www.ssa.gov/legislation/FY%202014%20CDR%20Report.pdf).

⁵ Students with Disabilities: Better Federal Coordination Could Lessen Challenges in the Transition from High School. (available at http://www.gao.gov/products/GAO-12-594). Youth With Autism: Federal Agencies Should Take Additional Action to Support Transition-Age Youth. (available at https://www.gao.gov/products/GAO-17-352). Supplemental Security Income: SSA Could Strengthen Its Efforts to Encourage Employment for Transition-Age Youth. (available at http://www.gao.gov/products/GAO-17-485).

Several studies of transition-age SSI recipients suggest significant gaps exist in the awareness and use of services and policies currently available to youth. For example, prior to age 18, less than one quarter of SSI recipients received vocational training.⁶ About 40 percent of 16- and 17-year-old SSI recipients work,⁷ but only about 3 percent of eligible SSI recipients (of all ages) use the student earned income exclusion, a work incentive that excludes a certain amount of earned income from the SSI calculation.⁸

⁶ David C. Wittenburg and Pamela J. Loprest (2007) Early Transition Experiences of Transition-Age Child SSI Recipients: New Evidence From the National Survey of Children and Families. Journal of Disability Policy Studies 18(3): 176-187. (available at http://journals.sagepub.com/doi/abs/10.1177/10442073070180030601).

⁷ Jeffrey Hemmeter, Jacqueline Kauff, and David Wittenburg (2009) Changing Circumstances: Experiences of child SSI recipients before and after their age-18 redetermination for adult benefits. Journal of Vocational Rehabilitation 30(3): 201-221. (available at http://content.iospress.com/articles/journal-of-vocational-rehabilitation/jvr00462).

⁸ Mary Kemp (2010) Recipients of Supplemental Security Income and the Student Earned Income Exclusion. Social Security Bulletin 70(2): 31-61. (available at https://www.ssa.gov/policy/docs/ssb/v70n2/v70n2p31.html).

SSA has recognized the difficult transition to adulthood and that many of these youth return to the SSI program in early adulthood. In the 2000s, SSA conducted the Youth Transition Demonstration (YTD), which provided support, especially employment support, to transition-age SSI recipients. Results from YTD show that employment-focused services can help youth achieve success in the labor market in the short run. Although there were mixed impact estimates, YTD projects that provided higher levels of employment-focused services saw higher impacts on earnings and employment that lasted after the period of service delivery.⁹ SSA is also currently evaluating the Promoting Readiness of Minors in SSI (PROMISE) demonstration.¹⁰ PROMISE is a joint effort with the Departments of Education, Labor, and Health and Human Services to help youth as early as age 14 prepare for their transition to adulthood. Qualitative and anecdotal evidence from YTD and PROMISE suggest that many families with children receiving SSI are unprepared for the transition of their children to adulthood.

⁹ Thomas Fraker, Arif Mamun, and Lori Timmins (2015) Three-Year Impacts of Services and Work Incentives on Youth with Disabilities (available at https://www.mathematica-;mpr.com/our-publications-and-findings/publications/threeyear-impacts-of-services-and-work-incentives-on-youth-with-disabilities).

¹⁰ Thomas Fraker, Erik Carter, Todd Honeycutt, Jacqueline Kauff, Gina Livermore, and Arif Mamun (2014) Promoting Readiness of Minors in SSI (PROMISE) Evaluation Design Report (available at https://www.ssa.gov/disabilityresearch/documents/PROMISE_Eval20%20Design%20Report_Final.pdf).

To address some of these issues, SSA recently began sending a brochure to SSI recipients approaching age 18 with information about the age-18 redetermination, SSA policies to support youth transition, and community resources. This information is also highlighted in a special section of SSA's “Red Book,” ¹¹ which is a resource that summarizes SSA's work incentive policies and is used by benefits counselors around the country. SSA has also instructed its Work Incentive Planning and Assistance (WIPA) providers to make a concerted effort to reach out to youth.

¹¹ https://www.ssa.gov/%redbook/.

SSA has also tasked the National Academies of Sciences, Engineering, and Medicine's Health and Medicine Division with convening a consensus committee to look at improving health outcomes for children with disabilities.¹² The committee will provide findings about programs and services aimed at improving health and functioning outcomes for school-aged children with disabilities. SSA expects to use the report to inform decisions about future research and policies. The final report is due in Fiscal Year 2018.

¹² http://nationalacademies.org/%hmd/Activities/SelectPops/ImprovingHealthOutcomesforChildrenwithDisabilities.aspx.

GAO Findings About SSI Transition

Despite these efforts, a recent GAO audit recommended additional efforts to encourage employment for transition-age SSI recipients.¹³ For example, GAO recommended that SSA work with the Department of Education to explore options to connect SSI youth to vocational rehabilitation (VR) services. SSA currently does not have the authority to refer SSI recipients to specific VR agencies. The Ticket to Work and Work Incentives Improvement Act of 1999 ¹⁴ removed this authority to provide a level playing field for employment networks, who are eligible for payments for successfully assisting Social Security Disability Insurance (SSDI) beneficiaries and SSI recipients return to work. When SSA implemented the Ticket program, it chose not to include children because they “generally are in school, still pursuing completion of their formal elementary and secondary education” and the Ticket program “could interfere with their pursuit of an education, completion of which many believe should be the primary focus and goal for school-age youth.” ¹⁵ As a result, SSA can neither refer minors to VR agencies, nor include those under the age of 18 in the Ticket program.

¹³ Supplemental Security Income: SSA Could Strengthen Its Efforts to Encourage Employment for Transition-Age Youth. (available at http://www.gao.gov/products/GAO-17-485).

¹⁴ Sec. 101(b), Public Law 106-170, 113 Stat. 1860.

¹⁵ 66 FR 67369, Dec. 28, 2001.

Other Agency Efforts

While SSA has an interest in improving adult outcomes for SSI youth, other Federal, State, and local governments and private and nonprofit entities often have larger—and more direct—roles in the general youth transition process. The Federal Partners in Transition (FPT) workgroup, for example, which is composed of representatives from SSA and the Departments of Labor, Health and Human Services, and Education, is a voluntary partnership designed to help coordinate Federal efforts around transition.¹⁶ In 2015, FPT published a document highlighting the goals of the partner agencies with respect to improving the outcomes for youth with disabilities.¹⁷ SSA continues to work with our partners in this area.

¹⁶ Federal Partners in Transition Workgroup (2015) “The 2020 Federal Youth Transition Plan: A Federal Interagency Strategy” (available at http://youth.gov/docs/508_EDITED_RC_FEB26-accessible.pdf.)

¹⁷ Id.

The passage of the Workforce Innovation and Opportunity Act (WIOA) ¹⁸ in 2014 has affected many of SSA's partners in this area. WIOA included significant requirements for serving youth. In particular, WIOA expanded the services that State VR agencies provide youth and the eligibility requirements for services. Additionally, State VR agencies must spend at least 15 percent of their Federal VR funds on pre-employment transition services for youths with disabilities transitioning from school to post-secondary education or employment.¹⁹ The required services include job exploration counseling, work-based learning experiences, post-secondary educational opportunity counseling, workplace readiness training, and self-advocacy instruction.²⁰ Additionally, at least 75 percent of WIOA youth funding to State workforce agencies, which oversee state employment and workforce programs such as unemployment insurance, must be spent on out-of-school youth.²¹

¹⁸ Secs. 411-424, Public Law 113-128, 128 Stat. 1425.

¹⁹ 29 U.S.C. 730(d), 733.

²⁰ 29 U.S.C. 733(b).

²¹ 29 U.S.C. 3164(a)(4).

In 2016, the Department of Education awarded grants to five State agencies under the Disability Innovation Fund-Transition Work-Based Learning Model Demonstrations project to support the requirements of WIOA. These grants will help the States “identify and demonstrate practices, which are supported by evidence, in providing work-based learning experiences in integrated settings under the vocational rehabilitation (VR) program, in collaboration with State educational agencies (SEAs), local educational agencies (LEAs), and other key partners within the local community, to improve post-school outcomes for students with disabilities.” ²² In addition, these models will be rigorously evaluated to explore their effectiveness and build the evidence base on effective work-based learning supports.

²² https://rsa.ed.gov/programs.cfm?pc=twblmd&sub=awards.

Request for Information

Through this notice, we are soliciting feedback from interested parties on potential policy changes and demonstration projects related to improving the transition of youths receiving SSI from childhood into adulthood. Responses to this request will inform our decisions about future policy changes targeting this population, whether to pursue a new demonstration project, and how to design such a project. This notice is to gather information for our internal planning purposes only and should not be construed as a solicitation or as an obligation on our part or on the part of any participating Federal agencies.

We ask respondents to address the following questions, where possible, considering the context discussed in this document. You do not need to address every question and should focus on those that relate to your expertise or perspectives. To the extent possible, please clearly indicate which question(s) you address in your response.

Questions:

1. What specific programs or practices have shown promise at the Federal, State, or local level in improving the adult economic outcomes of youth with disabilities receiving SSI?

2. Given the requirement of VR agencies to serve transition-age individuals, the availability of Individualized Education Programs (IEP) and Section 504 plans in school settings, and the availability of services and supports elsewhere available to youths, what should SSA's role be in assisting the transition of youths to adulthood?

3. How might SSA better support other agencies' youth transition-related activities?

a. What SSA policies interact with other agencies' services and supports?

b. Do SSA's and other agencies' policies need to be modified (technically or administratively) to improve utilization of these services and supports? How?

4. Are there aspects of SSA's publications, mailings, and online information that SSA can improve to better support successful transitions to adulthood of youths receiving SSI?

5. How can SSA improve its existing work incentive policies, such as the Student Earned Income Exclusion (SEIE) and Impairment-Related Work Expenses (IRWE), to better support and increase SSI youth engagement in work? Are there alternative models that SSA should consider to replace existing work incentives?

6. How can SSA enhance and better target its existing service infrastructure including its Work Incentive Planning and Assistance (WIPA) program and Plan to Achieve Self Support (PASS), to increase SSI youth engagement in work and work activities?

7. What lessons from SSA's youth demonstration projects, in particular the Youth Transition Demonstration (YTD) and the Promoting Readiness of Minors in SSI (PROMISE) project, should SSA apply to new policies and demonstrations? What partners were not included in those demonstrations that should have been? Why?

8. If SSA were to conduct a new demonstration project related to youth, which populations should SSA consider targeting, if any? How can SSA identify these populations? How many individuals enter these populations per year?

9. Are there entities (for example, State VR agencies, medical practices, local education and training agencies, etc.) we could look to as exemplars based on current practices for serving youth with disabilities? What evidence exists to suggest these sites are effectively providing services that would lead to the increased self-sufficiency of youths with disabilities?

10. In the absence of legislation renewing SSA's ability to refer Social Security Disability Insurance (SSDI) beneficiaries and SSI recipients directly to VR, how can SSA help connect youth to VR services?

11. Should SSA expand the Ticket to Work (Ticket) program to include children or create a separate program for children with a similar mission (i.e., reimbursing service providers whose services result in increased employment and reduced need on cash benefits)?

a. What services should such a program provide over and above the services youth with disabilities receiving SSI are already eligible for?

b. What types of service providers should be allowed to participate in a youth Ticket program? Should such a program include all types of existing employment network providers or should it be limited organizations with existing providers that serve the broader youth population?

c. Is there a lower age limit the Ticket program (either the current program or a new child-specific program) should include that is consistent with other common Federal, State, and local policies that promote self-sufficiency?

d. Since most children are in school, what outcomes or milestones should a program that included payments for child outcomes be tied to?

e. How effective are such incentive payments to service providers likely to be when serving youth? Are there alternatives to current incentive payment structures that SSA should consider (e.g., a payment structure based on state-wide youth employment or youth SSI participation metrics)?

f. How should the age-18 redetermination and the fact that over one-third of age-18 redeterminations result in the cessation of benefits because they do not have a condition that meets the adult standard for disability factor into such a program?

g. Are there specific populations among SSI youth, such as youth in foster care, that such a program should consider for allowable services, providers, and expenditures?

h. Would such a program be duplicative of the services provided by State VR agencies, which are already required to support the transition of youth with disabilities? Why or why not?

12. Since the implementation of WIOA, are there specific examples of effective services that are funded through the PROMISE grants but not funded through State VR agencies or other Federal and State funding sources?

Guidance for Submitting Documents

We ask that each respondent include the name and address of his or her institution or affiliation, if any, and the name, title, mailing and email addresses, and telephone number of a contact person for his or her institution or affiliation, if any.

Rights to Materials Submitted

You should not provide any material you consider confidential or proprietary in response to this notice.

Dated: December 26, 2017.
Nancy A. Berryhill,
Acting Commissioner of Social Security.

[FR Doc. 2017-28397 Filed 1-2-18; 8:45 am]

BILLING CODE 4191-02-P